DEPARTMENT OF COMMERCE

International Trade Administration

[A-549-813]

Canned Pineapple Fruit from Thailand: Notice of Initiation of Changed Circumstances Review of the Antidumping Duty Order, Preliminary Results of Changed Circumstances Review, and Intent to Revoke Antidumping Duty Order

AGENCY: Import Administration, International Trade Administration, Department of Commerce

SUMMARY: In response to a request for a changed circumstances review from the Thai Food Processors( Association (TFPA), and pursuant to section 751(b) of the Tariff Act of 1930, as amended (the Act), and 19 CFR 351.216 and 351.221(c)(3), the Department of Commerce is initiating a changed circumstances review of the antidumping duty order on canned pineapple fruit (CPF) from Thailand. The domestic interested party for this proceeding is Maui Pineapple Company Ltd. (petitioner).

EFFECTIVE DATE: March 7, 2008.

FOR FURTHER INFORMATION CONTACT: Douglas Kirby, AD/CVD Operations, Office 6, Import Administration, International Trade Administration, U.S. Department of Commerce, 14th Street and Constitution Avenue, NW, Washington, DC 20230; telephone: (202) 482-3782.

SUPPLEMENTARY INFORMATION:

Background

The Department of Commerce (the Department) published the antidumping duty order on CPF from Thailand on July 18, 1995. See Notice of Antidumping Duty Order and Amended Final Determination: Canned Pineapple Fruit from Thailand, 60 FR 36775 (July 18, 1995) (Antidumping Duty Order). On January 23, 2008, the Department received a request for a changed circumstances review from the TFPA. The TFPA requested that the Department revoke the antidumping duty order because Maui Pineapple Company Ltd. (petitioner) ceased production of CPF on October 31, 2007. On January 25, 2008, we received a letter from petitioner indicating that petitioner had no objection to the changed circumstances review and the revocation of the antidumping duty order.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States ((HTSUS(). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Initiation of Changed Circumstances Review, Preliminary Results, and Intent to Revoke Antidumping Duty Order

Pursuant to section 751(d)(1) of the Act, the Department may revoke an antidumping order based on a review under section 751(b) of the Act (i.e., a changed circumstances review). Section 751(b)(1) of the Act requires a changed circumstances review to be conducted upon receipt of a request which shows changed circumstances sufficient to warrant a review. Pursuant to 19 CFR 351.222(g), the Department will conduct a changed circumstances review under 19 CFR 351.216 and may revoke an order (in whole or in part) if it determines that producers accounting for substantially all of the production of the domestic like product to which the order (or the part of the order to be revoked) pertains have expressed a lack of interest in the relief provided by the order, in whole or in part, or if changed circumstances exist sufficient to warrant revocation. In addition, in the event that the Department concludes that expedited action is warranted, 19 CFR 351.221(c)(3)(ii) permits the Department to combine the notices of initiation and preliminary results.

The TFPA claims in its January 23, 2008 letter that it has satisfied the criteria to warrant a changed circumstances review. See 19 CFR 351.216(d). Specifically, TFPA claims that Maui Pineapple Company (Maui), the sole domestic producer of CPF, has ceased the production of canning solid-pack pineapple fruit. Therefore the TFPA alleges that the antidumping duty order can no longer protect a domestic industry in the United States from material injury as required under the statute for the maintenance of an antidumping duty order. The TFPA provided with its January 23, 2008 letter newspaper articles ¹ which announced that Maui would cease canning solid-pack pineapple fruit in Kahaului, Hawaii, on June 30, 2007. In addition, the TFPA also included this announcement with a Form 8-K filing with the Securities and Exchange Commission (SEC) which also states that Maui would cease canning solid-pack pineapple products effective June 30, 2007. Furthermore, the TFPA provided evidence that demonstrates that Maui auctioned off its canning equipment on October 31, 2007 (e.g., The Maui News, October 31, 2007, “Last Pineapple cannery in the U.S. is gone”). To conclude, the TFPA requests that the review be expedited based on the evidence submitted by the TFPA that Maui has ceased production of CPF.

¹ (e.g., Honolulu Advertiser, April 30, 2007, (ML&P to end canned pineapple operations June 30;( Business Wire, April 30, 2007, (Maui Pineapple Company to Consolidate Fresh Pineapple Operation()

In this case, the Department finds that the information submitted provides sufficient evidence of changed circumstances to warrant a review. Therefore, in accordance with section 751(d)(1) of the Act, and 19 CFR 351.216 and 351.222(g), based on the information provided by TFPA, we are initiating this changed circumstances review. Furthermore, since the information on record indicates there is no longer any U.S. production of the domestic like product, we determine that expedited action is warranted and we preliminarily determine that the continued relief provided by the order with respect to CPF from Thailand is no longer of interest to domestic interested parties. Because we have concluded that expedited action is warranted, we are combining these notices of initiation and preliminary results. Therefore, we are notifying the public of our intent to revoke the antidumping duty order with respect to imports of CPF from Thailand, effective October 31, 2007. If we make a final determination to revoke, we intend to instruct U.S. Customs and Border Protection (CBP) to liquidate without regard to antidumping duties and to refund any estimated antidumping duties collected, for all entries of CPF from Thailand, made on or after October 31, 2007, the final date of production of the subject merchandise by the sole domestic producer. The current requirement for a cash deposit of estimated antidumping duties on CPF from Thailand will continue unless and until we publish a final determination to revoke.

Public Comment

Interested parties are invited to comment on these preliminary results. Parties who submit argument in this proceeding are requested to submit with the argument: (1) a statement of the issue, and (2) a brief summary of the argument. Any interested party may request a hearing within 10 days of the date of publication of this notice. Any hearing, if requested, will be held no later than 25 days after the date of publication of this notice, or the first workday thereafter. Case briefs may be submitted by interested parties not later than 15 days after the date of publication of this notice. Rebuttal briefs, limited to the issues raised in the case briefs, may be filed not later than 20 days after the date of publication of this notice. All written comments shall be submitted in accordance with 19 CFR 351.303. Persons interested in attending the hearing should contact the Department for the date and time of the hearing. The Department will publish the final results of this changed circumstances review, including the results of its analysis of issues raised in any written comments.

This notice of initiation is in accordance with section 751(b)(1) of the Act, 19 CFR 351.216(b) and (d), and 19 CFR 351.221(b)(1).

Dated: February 29, 2008.
Stephen J. Claeys,
Acting Assistant Secretary for Import Administration.

[FR Doc. E8-4555 Filed 3-6-08; 8:45 am]

BILLING CODE 3510-DS-S